DEPARTMENT OF THE INTERIOR

National Park Service

[NPS-WASO-NRNHL-DTS#-29080; PPWOCRADI0, PCU00RP14.R50000]

National Register of Historic Places; Notification of Pending Nominations and Related Actions

AGENCY: National Park Service, Interior.

ACTION: Notice.

SUMMARY: The National Park Service is soliciting comments on the significance of properties nominated before October 5, 2019, for listing or related actions in the National Register of Historic Places.

DATES: Comments should be submitted by November 12, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 5, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Fayette County

Mitchell Farmstead, US 43, W side, 46 mi. N of Harbin Rd., Bobo vicinity, SG100004617

Jefferson County

Five Points South Historic (District Boundary Increase III), Generally bounded by 10th Ave. S, 21st Pl. S, 15th Ave. S & 17th St. S, Birmingham, BC100004615

Birmingham Food Terminal Historic District, Finley Ave. W between 3rd Pl. W and 1st St. W, Birmingham, SG100004619

South Central Bell Building, 600 19th St. N, Birmingham, SG100004626

Morgan County

Crabb-Stewart-Key House, 1084 Nat Key Rd., Hartselle vicinity, SG100004618

COLORADO

Denver County

Tammen Hall, 1010 E 19th Ave., Denver, SG100004612

Larimer County

Kelley House, 1410 N Garfield Ave., Loveland, SG100004613

Las Animas County

Our Lady of Guadalupe Church and Medina Cemetery, CO Hwy. 12, Medina Plaza, SG100004628

Weld County

Star Filling Station, 301 Centre Ave., New Raymer, SG100004614

ILLINOIS

Hancock County

Hunziker Winery Site, Address Restricted, Warsaw, SG100004624

MISSOURI

Cooper County

Phoenix American Cob Pipe Factory, 2nd & Vine Sts., Boone, SG100004604

Jackson County

Hoover Brothers Building, 922 Oak St., Kansas City, SG100004600

Crown Center Historic District, Bounded by Main St., Pershing Rd., 27th St., McGee St., Trfy, Grand Blvd., Kansas City, SG100004601

St. Charles County

Hausam, Peter, House, 1219 S Main St., St. Charles, SG100004599

St. Francois County

Howlett Gulf, 10 E Main St., Park Hills, SG100004602

St. Louis County

Maplewood Historic Commercial District, 7145-7233 & 7146-7192 Manchester Blvd., 7209-11 Lanham, Maplewood, SG100004603

NEBRASKA

Dawson County

Temple, Harry V., House, 305 E 13th St., Lexington, SG100004608

Douglas County

Omaha Auto Row Historic District (Lincoln Highway in Nebraska MPS), Roughly bounded by Douglas St., Dewey St., S 24th Ave. & S 28th St., Omaha, MP100004607

Red Willow County

Camp Indianola, E side of Cty. Rd. 396, 1.5 mi. N of Indianola, Indianola vicinity, SG100004609

OREGON

Multnomah County

Fried-Durkheimer House, 2177 SW Broadway Dr., Portland, SG100004606

SOUTH DAKOTA

Beadle County

Jefferson School (Schools in South Dakota MPS), 855 Utah Ave. SE, Huron, MP100004620

Haakon County

Midland Depot, 400 blk. of Main St., Midland, SG100004621

Spink County

Doland Commercial Historic District, Humphrey Dr. to 2nd St., Doland, SG100004622

WASHINGTON

Douglas County

Southern Columbia Plateau and Okanogan Highlands Site No. 45DO1235 (Spiritually Significant Rock Features of the Southern Columbia Plateau and Okanogan, Highlands MPS), Address Restricted, Palisades vicinity, MP100004630

Southern Columbia Plateau and Okanogan Highlands Site No. 45DO1236 (Spiritually Significant Rock Features of the Southern Columbia Plateau and Okanogan, Highlands MPS), Address Restricted, Palisades vicinity, MP100004631

Southern Columbia Plateau and Okanogan Highlands Site No. 45DO1237 (Spiritually Significant Rock Features of the Southern Columbia Plateau and Okanogan, Highlands MPS), Address Restricted, Palisades vicinity, MP100004632

Southern Columbia Plateau and Okanogan Highlands Site No. 45DO1238 (Spiritually Significant Rock Features of the Southern Columbia Plateau and Okanogan, Highlands MPS), Address Restricted, Palisades vicinity, MP100004633

Southern Columbia Plateau and Okanogan Highlands Site No. 45DO1239 (Spiritually Significant Rock Features of the Southern Columbia Plateau and Okanogan, Highlands MPS), Address Restricted, Palisades vicinity, MP100004634

Southern Columbia Plateau and Okanogan Highlands Site No. 45DO1240 (Spiritually Significant Rock Features of the Southern Columbia Plateau and Okanogan, Highlands MPS), Address Restricted, Palisades vicinity, MP100004635

Southern Columbia Plateau and Okanogan Highlands Site No. 45DO1241 (Spiritually Significant Rock Features of the Southern Columbia Plateau and Okanogan, Highlands MPS), Address Restricted, Palisades vicinity, MP100004636

Southern Columbia Plateau and Okanogan Highlands Site No. 45DO1242 (Spiritually Significant Rock Features of the Southern Columbia Plateau and Okanogan, Highlands MPS), Address Restricted, Palisades vicinity, MP100004637

Southern Columbia Plateau and Okanogan Highlands Site No. 45DO1243 (Spiritually Significant Rock Features of the Southern Columbia Plateau and Okanogan, Highlands MPS), Address Restricted, Palisades vicinity, MP100004638

Southern Columbia Plateau and Okanogan Highlands Site No. 45DO1244 (Spiritually Significant Rock Features of the Southern Columbia Plateau and Okanogan, Highlands MPS), Address Restricted, Palisades vicinity, MP100004639

Southern Columbia Plateau and Okanogan Highlands Site No. 45DO1245 (Spiritually Significant Rock Features of the Southern Columbia Plateau and Okanogan, Highlands MPS), Address Restricted, Palisades vicinity, MP100004640

WISCONSIN

Bayfield County

THOMAS FRIANT shipwreck (gill net tug) (Great Lakes Shipwreck Sites of Wisconsin MPS), Address Restricted, Port Wing vicinity, MP100004627

In the interest of preservation, a shortened comment period has been requested for the following resource:

OHIO

Franklin County

Standard Building, The, 174 E Long St., Columbus, SG100004597, Comment period: 3 days

An additional documentation has been received for the following resource:

ALABAMA

Jefferson County

Five Points South Historic District, Roughly bounded by 10th and 15th Aves., 19th and 21st Sts., Birmingham, AD83002973

ILLINOIS

Cook County

Uptown Square Historic District, Roughly along Lawrence Ave., and Broadway, Chicago, AD00001336

Authority: Section 60.13 of 36 CFR part 60.

Dated: October 7, 2019.
Julie H. Ernstein,
Supervisory Archeologist, National Register of Historic Places/National Historic Landmarks Program.

[FR Doc. 2019-23354 Filed 10-24-19; 8:45 am]

BILLING CODE 4312-52-P